DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 14, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Cooperative Agricultural Pest Survey.

OMB Control Number: 0579-0010.

Summary of Collection: The Plant Protection Act (7 U.S.C. 3301—et seq.) authorizes the Secretary of Agriculture, either independently or in cooperation with States, to carry out operations or measures to detect, eradicate, suppress, control, prevent, or retard the spread of plant pests and noxious weeds. The Animal and Plant Health Inspection Service (APHIS), Plant Protection and Quarantine (PPQ), along with the States and other agencies, collects and manages data on plant pests, woods, and biological control agents through the Cooperative Agricultural Pest Survey (CAPS). The program allows the States and PPQ to conduct surveys to detect and measure the presence of exotic plant pests and weeds and to input surveillance data into a national computer-based system known as the National Agricultural Plant Information System (NAPIS).

Need and Use of the Information: APHIS collects information using cooperative agreements, pest detection surveys, and a Specimens for Determination form (PPQ Form 391), to predict potential plant pest and noxious weed situations and to promptly detect and respond to the occurrence of new pests and to record the location of those pest incursions that could directly hinder the export of U.S. farm commodities. If the information were not collected, it would seriously impact APHIS' ability to timely assist State personnel, and others involved in agriculture and protection of the environment in order to plan pest control measures, detect new outbreaks, and to determine the threat posed by migratory pests.

Description of Respondents: State, local, or Tribal government.

Number of Respondents: 55.

Frequency of Responses: Reporting; on occasion.

Total Burden Hours: 3,669.

Ruth Brown,
Departmental Information Collection Clearance Officer.

[FR Doc. 2023-17484 Filed 8-14-23; 8:45 am]

BILLING CODE 3410-34-P